DEPARTMENT OF JUSTICE

[OMB Number 1121-NEW]

Agency Information Collection Activities; Proposed eCollection; eComments Requested; New Collection: Criminal Cases in State Courts (CCSC), Previously Posted as Analysis of Publicly Available Court Data (APACD)

AGENCY: Bureau of Justice Statistics, Department of Justice.

ACTION: 30-Day notice.

SUMMARY: Department of Justice (DOJ), Office of Justice Programs, Bureau of Justice Statistics, will be submitting the following information collection request to the Office of Management and Budget (OMB) for review and approval in accordance with the Paperwork Reduction Act of 1995. This proposed information collection was previously published, allowing for a 60 day comment period. Seven comments from the public were received during this period and are thoroughly addressed in the supporting statement for this collection. Three comments requested that information on interpreters be added. The requesters sought data elements reflecting for whom the interpreter was ordered (defendant, witness, victim), whether the interpreter was present for all hearings, and the qualifications of the interpreter. BJS added data elements asking courts to provide whether an interpreter was ordered for the case and for which party(ies) to the case the interpreter was ordered. BJS does not expect these changes to impact the estimated respondent burden.

DATES: Comments are encouraged and will be accepted for an additional 30 day until March 16, 2020.

FOR FURTHER INFORMATION CONTACT: If you have additional comments especially on the estimated public burden or associated response time, suggestions, or need a copy of the proposed information collection instrument with instructions or additional information, please contact Suzanne M. Strong, Statistician, Bureau of Justice Statistics, 810 Seventh Street NW, Washington, DC 20531 (email: Suzanne.M.Strong@usdoj.gov; telephone: 202-616-3666). Written comments and/or suggestions can also be sent to the Office of Management and Budget, Office of Information and Regulatory Affairs, Attention Department of Justice Desk Officer, Washington, DC 20503 or sent to OIRA_submissions@omb.eop.gov.

SUPPLEMENTARY INFORMATION: Written comments and suggestions from the public and affected agencies concerning the proposed collection of information are encouraged. Your comments should address one or more of the following four points:

— Evaluate whether the proposed collection of information is necessary for the proper performance of the functions of the agency, including whether the information will have practical utility;

— Evaluate the accuracy of the agencies estimate of the burden of the proposed collection of information, including the validity of the methodology and assumptions used;

— Enhance the quality, utility, and clarity of the information to be collected; and

— Minimize the burden of the collection of information on those who are to respond, including through the use of appropriate automated, electronic, mechanical, or other technological collection techniques or other forms of information technology, e.g., permitting electronic submission of responses.

Overview of This Information Collection

(1) Type of Information Collection: New collection.

(2) Title of the Form/Collection: Criminal Cases in State Courts (CCSC), formerly titled Analysis of Publicly Available Court Data.

(3) Agency form number, if any, and the applicable component of the Department sponsoring the collection: The Data Extraction guide is CCSC-001. The applicable component within the Department of Justice is the Bureau of Justice Statistics, in the Office of Justice Programs.

(4) Affected public who will be asked or required to respond, as well as a brief abstract: BJS will request complete records from the statewide and mostly-statewide systems, with separate requests to the counties not included in the mostly statewide systems. BJS will also sample counties from the states unable to provide statewide extracts. The requests will sample with certainty any county with a total resident population exceeding one million persons. A total of 150 jurisdictions (states or counties) will be included in this effort.

BJS is requesting that the data extracts provided by courts include all felony and misdemeanor criminal cases disposed of between January 1 and December 31, 2019. BJS is also requesting that the extracts include defendant demographics; information about charges, disposition, and sentences. State and local courts can provide the data extract or extracts in any format.

BJS plans to publish this information in reports and reference it when responding to queries from the U.S. Congress, Executive Office of the President, the U.S. Supreme Court, state officials, international organizations, researchers, students, the media, and others interested in criminal justice statistics.

(5) An estimate of the total number of respondents and the amount of time estimated for an average respondent to respond/reply: BJS will send a data extraction guide to 150 jurisdictions. The 150 jurisdictions include 36 states (including 10 counties that are not included in the statewide case management systems) and the District of Columbia, 23 counties with total populations exceeding 1,000,000 residents, and 79 sampled counties representing the 14 states and Puerto Rico that cannot provide statewide data. The expected burden placed on these jurisdictions is about 30 hours per jurisdiction, with an additional 10 hours to explain any data inconsistencies or questions of the data collection team.

(6) An estimate of the total public burden (in hours) associated with the collection: There are an estimated 6,000 total burden hours associated with this collection.

If additional information is required contact: Melody Braswell, Department Clearance Officer, United States Department of Justice, Justice Management Division, Policy and Planning Staff, Two Constitution Square, 145 N Street NE, Suite 3E.405B, Washington, DC 20530.

Dated: February 7, 2020.
Melody Braswell,
Department Clearance Officer, PRA, U.S. Department of Justice.

[FR Doc. 2020-02842 Filed 2-12-20; 8:45 am]

BILLING CODE 4410-18-P